DEPARTMENT OF COMMERCE

National Oceanic and Atmospheric Administration

RIN 0648-XO02

Mid-Atlantic Fishery Management Council; Atlantic Mackerel, Butterfish, Atlantic Bluefish, Spiny Dogfish, Summer Flounder, Scup, Black Sea Bass, Tilefish, Surfclam, and Ocean Quahog Annual Catch Limits and Accountability Measures Omnibus Amendment; Scoping Process

AGENCY: National Marine Fisheries Service (NMFS), National Oceanic and Atmospheric Administration (NOAA), Commerce.

ACTION: Notice; extension of comment period on intent to prepare an environmental impact statement (EIS).

SUMMARY: The Mid-Atlantic Fishery Management Council (Council) extends the comment period on its intention to prepare, in cooperation with NMFS, an EIS in accordance with the National Environmental Policy Act to assess potential effects on the human environment of alternative measures to address the new Magnuson-Stevens Fishery Conservation and Management Act requirements for annual catch limits (ACLs) and accountability measures (AMs) in an omnibus amendment to the fishery management plans (FMPs) for Atlantic mackerel, butterfish, Atlantic bluefish, spiny dogfish, summer flounder, scup, black sea bass, tilefish, surfclams, and ocean quahogs.

This notice announces an extension of the comment period for the public process of determining the scope of issues to be addressed, and for identifying the significant issues related to the implementation of ACLs and AMs for these fisheries. This notice is to alert the interested public of additional time to prepare and submit comments during the scoping process.

DATES: Written comments must be received on or before 5 p.m., EST, on May 31, 2009.

ADDRESSES: Written comments may be sent by any of the following methods:

• E-mail to the following address: Omnibus.NOI@noaa.gov;

• Mail or hand deliver to Daniel T. Furlong, Executive Director, Mid-Atlantic Fishery Management Council, Room 2115 Federal Building, 300 South New Street, Dover, Delaware 19904-6790. Mark the outside of the envelope “Omnibus Amendment: National Standard 1 Requirements Scoping Comments”; or

• Fax to (302) 674-5399.

The scoping document may also be obtained from the Council office at the previously provided address, or by request to the Council by telephone (302) 674-2331, or via the Internet at http://www.mafmc.org/mid-atlantic/comments/comments.htm.

FOR FURTHER INFORMATION CONTACT: Mr. Daniel T. Furlong, Mid-Atlantic Fishery Management Council, Room 2115 Federal Building, 300 S. New St., Dover, DE 19904-6790, (telephone 302-674-2331).

SUPPLEMENTARY INFORMATION: An initial notice of intent (NOI) to prepare an EIS and conduct public scoping meetings in support of ACL and AM development for an omnibus amendment to Council FMPs was published in the Federal Register on March 24, 2009 (74 FR 12314). The initial NOI contained detail on the topics to be addressed in the EIS and information on topics that may be considered for further development by the Council to address Magnuson-Stevens Fishery Conservation and Management Act ACL and AM requirements. Those details are not repeated here.

The initial NOI indicated that public comment was to be submitted to the Council by 5:00 p.m., EST, May 15, 2009. This subsequent announcement extends the previously published public comment period to 5 p.m., EST, on May 31, 2009. The extension is provided to permit the public and other interested parties additional time to develop and submit comments on the NOI.

The initially announced scoping hearings contained in the March 24, 2009, announcement remain unchanged.

Authority: 16 U.S.C. 1801 et seq.

Dated: April 28, 2009.
Kristen C. Koch,
Acting Director, Office of Sustainable Fisheries, National Marine Fisheries Service.

[FR Doc. E9-10179 Filed 5-1-09; 8:45 am]

BILLING CODE 3510-22-S